DEPARTMENT OF HEALTH AND HUMAN SERVICES

Centers for Medicare and Medicaid Services

[Document Identifier: CMS-R-193]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement, with change, of a previously approved collection for which approval has expired; Title of Information Collection: “Important Message from Medicare” Title XVII Section 1866(a)(1)(M), 42 CFR 466.78, 489.20, 489.34, 489.27, 411.404, 412.42, 417.440 and Section 422.620; Form No.: CMS-R-193 (OMB# 0938-0692); Use: Hospital participating in the Medicare program have agreed to distribute the “Important Message from Medicare” to beneficiaries during the course of their hospital stay and inform them of their impending charges. Receiving this information will provide all Medicare beneficiaries with some ability to participate and/or initiate discussions concerning actions that may affect their Medicare coverage, payment, and appeal rights in response to hospital notification their care will no longer continue; Frequency: Other: Distribution; Affected Public: Individuals or households, business or other for-profit, not-for-profit institutions, Federal Government, State, Local or Tribal Government; Number of Respondents: 5,985; Total Annual Responses: 11,500,000; Total Annual Hours: 632,500.

Since the last version of form CMS-R-193, “Important Message from Medicare” (IM), was published, we have had several conversations with representatives of the hospital and managed care industry about how to make the IM a less burdensome, but equally effective, process. Most recently (this month), we consulted with representatives of the American Hospital Association, and the New Jersey Hospital Association, as well as with the Kaiser M+C organization staff to alert them to our plan to introduce a much less burdensome IM form and methodology. There has been general, unofficial agreement that the new approach would be viewed as a welcome improvement by the industry (although, we realize that some issues may remain). Because, we previously submitted this collection for OMB clearance, reduced burden on respondents and consulted with the industry, we believe that further review at the agency level is not justified. Therefore, we are proceeding directly with clearance through OMB.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Allison Eydt, New Executive Office Building, Room 10235, Washington, D.C. 20503.

Dated: February 21, 2002.
John P. Burke, III,
CMS Reports Clearance Officer, CMS Office of Information Services, Security and Standards Group, Division of CMS Enterprise Standards.

[FR Doc. 02-4972 Filed 3-1-02; 8:45 am]

BILLING CODE 4120-03-U